DEPARTMENT OF TRANSPORTATION

National Highway Traffic Safety Administration

[Docket No. NHTSA-2007-29244]

Notice of Technical Workshop and Demonstration—Wednesday, November 7, 2007

AGENCY: National Highway Traffic Safety Administration (NHTSA), DOT.

ACTION: Notice of technical workshop and demonstration.

SUMMARY: This notice announces that NHTSA will hold a compliance test program workshop to discuss and demonstrate the Office of Vehicle Safety Compliance (OVSC) Laboratory Test Procedure (TP) for the agency's safety standard for electronic stability control (ESC) systems. Vehicle manufacturers, tier-one ESC suppliers, ESC component manufacturers, and other interested persons with technical knowledge of ESC systems who wish to participate in the workshop are asked to pre-register and are invited to submit related technical issues for discussion at the meeting. Attendance requires registration and is free.

Dates and Times: The workshop and demonstration of the test procedure will be held on November 7, 2007 from 8:30 a.m. to 5 p.m. (If a back-up day is required, due to inclement weather, the workshop will take place on November 8, 2007.)

ADDRESSES: The workshop and demonstration will be held at Transportation Research Center, Inc. (TRC) in East Liberty, Ohio. Directions to the meeting location and a final agenda will be sent to registered participants.

FOR FURTHER INFORMATION CONTACT: For registration, contact Ms. Maritza Marshall, Office of Vehicle Safety Compliance, NVS-220, National Highway Traffic Safety Administration, 1200 New Jersey Avenue, SE., Room W43-481, Washington, DC 20590, telephone (202) 366-6017, facsimile (202) 366-7002, or electronic mail maritza.marshall@dot.gov. For technical issues, contact Mr. John Finneran, at the same address, telephone (202) 366-0645, facsimile (202) 366-7097, or electronic mail john.finneran@dot.gov.

SUPPLEMENTARY INFORMATION: FMVSS No. 126: On April 6, 2007, NHTSA published a final rule establishing Federal Motor Vehicle Safety Standard (FMVSS) No. 126, Electronic Stability Control Systems (72 FR 17236). This final rule requires new passenger cars, multi-purpose passenger vehicles, trucks, and buses with a gross vehicle weight rating of 4,536 kg (10,000 pounds) or less, according to the phase-in schedule specified, to be equipped with an ESC system that meets the requirements of the standard. Specifically, a vehicle must be equipped with an ESC system that is capable of applying brake torques individually to all four wheels and has a control algorithm that utilizes this capability, is operational during all phases of driving including acceleration, coasting, and deceleration (including braking), except when the driver has disabled ESC, the vehicle speed is below 15 km/h (9.3 mph), or the vehicle is being driven in reverse, and remains capable of activation even if the antilock brake system or traction control system is activated. Vehicles to which this standard applies must satisfy specific lateral stability and responsiveness performance requirements. Yaw rate thresholds are used to assess a vehicle's lateral stability. The yaw rate measured one second after completion of a 0.7 Hz “sine with dwell steering input” maneuver must not exceed 35 percent of the first peak value of yaw rate recorded after the steering wheel angle changes sign (between first and second peaks) during the same test run, and the yaw rate measured 1.75 seconds after completion of the same maneuver must not exceed 20 percent of the first peak value of yaw rate recorded after the steering wheel angle changes sign (between first and second peaks). The lateral displacement is used to assess a vehicle's responsiveness. The lateral displacement of the vehicle center of gravity with respect to its initial straight path must be at least 1.83 m (6 feet) for vehicles with a GVWR of 3,500 kg (7,716 lb) or less, and 1.52 m (5 feet) for vehicles with a GVWR greater than 3,500 kg (7,716 lb) when computed 1.07 seconds after the Beginning of Steer (BOS) at specified commanded steering wheel angles. The ESC system must also be capable of detecting and warning of system malfunctions. As reflected in the final rule, FMVSS No. 126 is a performance standard. Petitions for reconsideration of the final rule have been received and may be viewed on DOT Web site http://dms.dot.gov, or from the Federal Docket Management System (FMDS) at http://www.regulations.gov (reference docket number NHTSA-2007-27662). TP-126 is a test procedure applicable only to contractors employed by NHTSA to perform compliance tests on its behalf. The test procedure reflects FMVSS No. 126 but is not the standard itself or an interpretation of the standard. (See the purpose and application section of TP-126 for a more complete discussion of the nature of NHTSA's test procedures.)

Workshop: To enable interested parties and NHTSA personnel to discuss the questions concerning TP-126, NHTSA believes that it would be desirable to hold a technical workshop and demonstration on the test procedure. The scope of this workshop is strictly limited to issues surrounding implementation of OVSC Laboratory Test Procedure TP-126, including subsequent amendments, if any, to the procedure resulting from the agency's response to petitions for reconsideration of the final rule. TP-126 is posted on the NHTSA Web site at http://www.nhtsa.dot.gov (under “Test Procedures” on the Vehicles and Equipment page).

Agenda: The workshop will begin at 8:30 a.m. on November 7, 2007 and conclude by 5 p.m. (If a back-up day is required, due to inclement weather, the workshop will take place on November 8, 2007.) The agenda includes technical discussions about the execution of the compliance test, lunch (to be paid for by each participant), and a physical ESC test demonstration. The following is a preliminary agenda for the workshop.

I. Introduction

II. Background Information on the TRC Test Facility

III. FMVSS No. 126 Final Rule Highlights

IV. OVSC Test Procedure TP-126 Content

A. Overview of Suggested Test Equipment and Instrumentation

B. Test Preparation Requirements

C. Test Execution

D. Data Post Processing

V. Vehicle Manufacturer Test Specification Form

VI. Issues with Test Procedure TP-126

VII. Simulated and/or Physical Demonstration of ESC-Equipped Vehicle

VIII. Data Post Processing

IX. Questions & Answers

Submission of Agenda Items: Written suggestions regarding technical issues to be included in the agenda should be submitted to the address below and must be received by the agency on or before October 17, 2007. You may submit comments identified by DOT DMS Docket Number NHTSA 2007-29244 by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: Until September 29, 2007, by logging onto the DOT Docket Management System Web site at http://dms.dot.gov; after September 28, 2007, by logging onto the Federal Docket Management System (FMDS) Web site at http://www.regulations.gov. Follow the online instructions for submitting comments. For additional details concerning the docket system changes, please review the notice published in the Federal Register on September 24, 2007 (Volume 72, Number 184; pages 54315-54317). Comments may also be faxed to 1-202-493-2251.

Anyone is able to search the electronic form of all submissions entered into any of our dockets in FDMS by the name of the individual submitting the document (or signing the document, if submitted on behalf of an association, business, labor union, etc.). You may review DOT's complete Privacy Act Statement in the Federal Register published on April 11, 2000 (65 FR 19477-78) or you may visit http://DocketsInfo.dot.gov, which will be available by October 1, 2007.

To Register for This Workshop: Each person wishing to participate in the workshop must register with NHTSA by October 17, 2007. You can register by contacting Ms. Maritza Marshall on or before October 17, 2007; her contact information is listed above. To register, you must provide NHTSA with your name, title, organizational affiliation and contact information (mailing address, phone numbers (voice and fax), and e-mail address). Due to space limitations, NHTSA may have to limit the number of participants per organization. Food options on site are limited. Participants may purchase lunch in cash upon check-in.

You will be contacted only if this meeting is postponed or cancelled.

Issued: October 3, 2007.
Claude H. Harris,
Director, Office of Vehicle Safety Compliance.

[FR Doc. E7-20030 Filed 10-10-07; 8:45 am]

BILLING CODE 4910-59-P